DEPARTMENT OF AGRICULTURE

National Agricultural Library

Notice of Intent To Seek Approval To Collect Information

AGENCY: National Agricultural Library, Agricultural Research Service, USDA.

ACTION: Notice and request for comments.

SUMMARY: In accordance with the Paperwork Reduction Act of 1995 and the Office of Management and Budget (OMB) regulations, this notice announces the National Agricultural Library's (NAL) intent to request renewal of an information collection to obtain an evaluation of user satisfaction with NAL internet sites.

DATES: Comments on this notice must be received by November 18, 2019 to be assured of consideration.

ADDRESSES: You may submit comments by any of the following methods:

• Email: Ricardo.S.Romero@usda.gov.

• Fax: 301-504-7042 attention Ricardo Romero.

• Mail/Hand Delivery/Courier: National Agricultural Library,10301 Baltimore Avenue, Room 115-B, Beltsville, Maryland 20705-2351.

FOR FURTHER INFORMATION CONTACT: Ricardo Romero at 301-504-5066.

SUPPLEMENTARY INFORMATION:

Title: “Evaluation of User Satisfaction with NAL Internet Sites.”

OMB Number: 0518-0040.

Expiration Date: N/A.

Type of Request: Approval for renewed data collection.

Abstract: This is a request, made by NAL Office of the Director Office of the Associate Director of Information Services, that the OMB approve, under the Paperwork Reduction Act of 1995, a 3-year generic clearance for the NAL to conduct user satisfaction research around its internet sites. This effort is made according to Executive Order 12862, which directs federal agencies that provide significant services directly to the public to survey customers to determine the kind and quality of services they want and their level of satisfaction with existing services.

The NAL internet sites are a vast collection of web pages. NAL web pages are visited by an average of 8.6 million people per month. All NAL Information Centers have an established web presence that provides information to their respective audiences.

Description of Surveys: The online surveys will be no more than 15 Semantic Differential Scale or multiple-choice questions, and no more than four open-ended response questions.

Estimate of Burden: Public reporting burden for this collection of information is estimated to average 8 minutes per survey.

Respondents: The agricultural community, USDA personnel and their cooperators, and including public and private users or providers of agricultural information.

Estimated Number of Respondents: 1,000 per year.

Estimated Total Annual Burden on Respondents: 80 hours.

Comments: The purpose of the research is to ensure that intended audiences find the information provided on the internet sites easy to access, clear, informative, and useful. Specifically, the research will examine whether the information is presented in an appropriate technological format and whether it meets the needs of users of these internet sites. The research will also provide a means by which to classify visitors to the NAL internet sites, to better understand how to serve them. It is estimated that participants will require no more than 5 minutes to complete each survey. Actual time required will vary based on participant reading rate.

Sample questions may include the following:

| Please rate the accuracy of information on this site.
| Please rate the quality of information on this site.
| Please rate the freshness of content on this site.
Functionality | Please rate the usefulness of the information provided on this site.
| Please rate the convenience of the information on this site.
| Please rate the ability to accomplish what you wanted to on this site.
Look and Feel | Please rate the ease of reading this site.
| Please rate the clarity of site organization.
| Please rate the clean layout of this site.
Navigation | Please rate the degree to which the number of steps it took to get where you want is acceptable.
| Please rate the ability to find information you want on this site.

Comments should be sent to the address in the preamble.

Dated: September 4, 2019.
Simon Y. Liu,
Associate Administrator, ARS.

[FR Doc. 2019-20094 Filed 9-16-19; 8:45 am]

BILLING CODE 3410-03-P